SMALL BUSINESS ADMINISTRATION

Data Collection Available for Public Comments

ACTION: 60-day notice and request for comments

SUMMARY: The Small Business Administration (SBA) intends to request approval, from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before February 24, 2014.

ADDRESSES: Send all comments to Andrienne Johnson, Staff Assistant, Office of Administrator, Small Business Administration, 409 3rd Street, 7th Floor, Washington, DC 20416.

FOR FURTHER INFORMATION CONTACT: Andrienne Johnson, Staff Assistant, 202-205-6685, andrienne.johnson@sba.gov, or Curtis B. Rich, Management Analyst, 202-205-7030, curtis.rich@sba.gov;

SUPPLEMENTARY INFORMATION: This form is used to collect information from candidates for advisory councils. This form is needed to determine eligibility, potential conflict-of-interest and mailing data.

Title: U.S. Small Business Advisory Committee Membership—Nominee Information.

Description of Respondents: Candidates for Advisory Councils.

SBA Form No: 898.

Total Estimated Annual Responses: 100.

Total Estimated Annual Hour Burden: 100.

Curtis Rich,
Management Analyst.

[FR Doc. 2013-30602 Filed 12-23-13; 8:45 am]

BILLING CODE 8025-01-P